COMMITTEE FOR PURCHASE FROM PEOPLE WHO ARE BLIND OR SEVERELY DISABLED

Procurement List Additions

AGENCY: Committee for Purchase From People Who Are Blind or Severely Disabled.

ACTION: Additions to Procurement List.

SUMMARY: This action adds to the Procurement List a product and services to be furnished by nonprofit agencies employing persons who are blind or have other severe disabilities.

DATES: Effective Date: May 18, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On February 8 and February 22, 2008, the Committee for Purchase From People Who Are Blind or Severely Disabled published notice (73 FR 7521; 9766) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Tray, Mess, Compartmented

NSN: 7350-01-012-8787.

NPA: The Lighthouse f/t Blind in New Orleans, New Orleans, LA.

Coverage: B-List for the broad Government requirement as specified by the General Services Administration.

Contracting Activity: General Services Administration, Southwest Supply Center, Fort Worth, TX.

Services

Service Type/Location(s): Administrative & Mailroom Support Services, U.S. Department of Housing and Urban Development (5 Locations):

Fort Worth Regional Office, 801 Cherry Street, Room 2500, Fort Worth, TX.

Lubbock Office, 1205 Texas Avenue, Suite 511, Lubbock, TX.

Memphis Field Office, 200 Jefferson Avenue, Suite 300, Memphis, TN.

San Antonio Field Office, One Alameda Center, 106 S. St. Mary's Street, Suite 405, San Antonio, TX.

Shreveport Field Office, 401 Edwards Street, Suite 1510, Shreveport, LA.

NPA: Nobis Enterprises, Inc., Marietta, GA.

Contracting Activity: U.S. Department of Housing and Urban Development, Office of Field Administrative Resources (OFAR), Atlanta, GA.

Service Type/Location: Base Supply Center, Base Supply Center, Naval Station Newport, Newport, RI.

NPA: Central Association for the Blind & Visually Impaired, Utica, NY.

Contracting Activity: Fleet and Industrial Supply Center (FISC), Norfolk Contracting Department, Groton, CT.

Service Type/Location: Custodial Services, U.S. Army Corps of Engineers, Lake Michigan Area Office, 307 South Harbor Street, Grand Haven, MI.

NPA: Goodwill Industries of West Michigan, Inc., Muskegon, MI.

Contracting Activity: U.S. Army Corps of Engineers—Detroit, Detroit, MI.

Service Type/Location: Laundry Services, Blanchfield Army Community Hospital (BACH), Fort Campbell, KY.

NPA: Lakeview Center, Inc., Pensacola, FL.

Contracting Activity: Department of the Army, Southeast Regional Contracting Office (SERCO), Fort Gordon, GA.

Service Type/Location: Laundry Services, Fort Campbell, Fort Campbell, KY.

NPA: Lakeview Center, Inc., Pensacola, FL.

Contracting Activity: Department of the Army, Army Contracting Agency, Directorate of Contacting, Fort Campbell, KY.

This action does not affect current contracts awarded prior to the effective date of this addition or options that may be exercised under those contracts.

Patrick Rowe,
Deputy Executive Director.

[FR Doc. E8-8367 Filed 4-17-08; 8:45 am]

BILLING CODE 6353-01-P